DEPARTMENT OF HOMELAND SECURITY

[Docket No. DHS-2007-0037]

Homeland Security Advisory Council

AGENCY: Department of Homeland Security.

ACTION: Committee management; Notice of closed Federal advisory committee meeting.

SUMMARY: The Homeland Security Advisory Council will meet on June 11, 2007, in New York, NY. The meeting will be closed to the public.

DATES: The Homeland Security Advisory Council will meet Monday, June 11, 2007 from 8:30 a.m. to 3:30 p.m.

ADDRESSES: The meeting will be held at Warwick Hotel, 65 West 54th Street, New York, NY 10019, USA. Requests to have written material distributed to each member of the committee prior to the meeting should reach the contact person at the address below by May 31, 2007. Send written material to U.S. Department of Homeland Security, Homeland Security Advisory Council, Washington, DC 20538. Comments must be identified by DHS-2007-0037 and may be submitted by one of the following methods:

• Federal eRulemaking Portal: http://www.regulations.gov. Follow the instructions for submitting comments.

• E-mail: HSAC@dhs.gov. Include the docket number in the subject line of the message.

• Fax: 202-282-9207.

• Mail: U.S. Department of Homeland Security, Homeland Security Advisory Council, Attn: Ruth Smith, 3801 Nebraska Avenue, NW., Washington, DC 20528.

Instructions: All submissions received must include the words “Department of Homeland Security” and the docket number for this action. Comments received will be posted without alteration at www.regulations.gov, including any personal information provided.

Docket: For access to the docket to read background documents or comments received by the Homeland Security Advisory Council, go to http://www.regulations.gov.

FOR FURTHER INFORMATION CONTACT: U.S. Department of Homeland Security, Homeland Security Advisory Council, Attention: Ruth Smith, (202) 447-3135, fax: (202) 282-9207.

SUPPLEMENTARY INFORMATION: Notice of this meeting is given under the Federal Advisory Committee Act, 5 U.S.C. App. (Pub. L. 92-463). The HSAC exists to provide organizationally independent advice and recommendations to the Secretary of the Department aiding in the creation and expeditious implementation of critical and actionable policy and operational capacities across the spectrum of Homeland Security operations. The HSAC shall periodically report, as appropriate, to the Secretary on matters within the scope of that function. The HSAC serves as an advisory body with the goal of providing advice upon the request of the Secretary.

The committee will meet for the purpose of discussions with senior Department of Homeland Security Officials and will discuss priorities and the progress of various initiatives.

Basis for Closure

The Federal Advisory Committee Act permits the closure of advisory committee meetings, or portions thereof, as a matter of public interest subject to the requirements of the Government in the Sunshine Act (5 U.S.C. 552b(c)). At this meeting, the Committee will participate in sensitive discussions with senior officials regarding priorities and ongoing initiatives in the department.

Pursuant to 5 U.S.C. 552b(c)(9)(B), the nature of the discussions could lead to premature disclosure of information on Department of Homeland Security actions that would be “likely to significantly frustrate implementation of a proposed agency action.” Additionally, discussions of ongoing investigations with Department of Homeland Security enforcement components and outside law enforcement partners fall within the meaning of 5 U.S.C. 552b(c)(7)(E) insofar as they will “disclose investigative techniques and procedures.”

The closed meeting will be dedicated to pre-decisional discussions of the updates to the National Response Plan and the rollout of radiation screening in ports, as well as the investigative and enforcement efforts of Immigration and Customs Enforcement, Customs and Border Protection, New York Police Department, and the New York State Department of Public Safety. The predecisional discussion with Coast Guard and FEMA will involve information that, if publicly disclosed, is likely to inhibit the government's ability to implement the National Response Plan and the planned radiation screening programs. The discussions with internal and external enforcement components will involve information about sensitive investigative techniques and procedures.

Dated: May 14, 2007.
Doug Hoelscher,
Executive Director, Homeland Security Advisory Committees.

[FR Doc. 07-2642 Filed 5-23-07; 12:38 pm]

BILLING CODE 4410-10-P